DEPARTMENT OF VETERANS AFFAIRS

Advisory Committee on Cemeteries and Memorials, Notice of Meeting

The Department of Veterans Affairs (VA) gives notice under Public Law 92-463 (Federal Advisory Committee Act) that a meeting of the Advisory Committee on Cemeteries and Memorials will be held on May 7-8, 2014, in the Board of Veterans Appeals Conference Room at 425 I Street NW., Room 4E.400, Washington, DC 20001, from 8:30 a.m. to 4:00 p.m. The meeting is open to the public.

The purpose of the Committee is to advise the Secretary of Veterans Affairs on the administration of national cemeteries, soldiers' lots and plots, the selection of new national cemetery sites, the erection of appropriate memorials, and the adequacy of Federal burial benefits.

On May 7, 2014, the Committee will receive updates on the National Cemetery Administration's issues. On the morning of May 8, 2014, the Committee will tour U.S. Soldiers' and Airmens' Home, 3700 North Capitol Street NW., Washington, DC. In the afternoon, the Committee will reconvene in the Board of Veterans Appeals Conference Room to discuss Committee recommendations, future meeting sites, and potential agenda topics for future meetings.

Time will be allocated for receiving public comments at 1:00 p.m. Public comments will be limited to three minutes each. Individuals wishing to make oral statements before the Committee will be accommodated on a first-come, first-serve basis. Individuals who speak are invited to submit 1-2 page summaries of their comments at the time of the meeting for inclusion in the official meeting record. Members of the public may direct questions or submit written statements for review by the Committee in advance of the meeting to Mr. Michael Nacincik, Designated Federal Officer, VA, National Cemetery Administration (43A2), 1100 1st Street NE., Washington, DC 20002, or by email at michael.n@va.gov. In the public's communications with the Committee, the writers must identify themselves and state the organizations, associations, or persons they represent. Because the meeting will be in a Government building, anyone attending must be prepared to show a valid photo ID for checking in. Please allow 15 minutes before the meeting begins for this process. Any member of the public wishing to attend the meeting should contact Mr. Nacincik at (202) 632-8013.

Dated: February 18, 2014.
Jelessa Burney,
Committee Management Officer.

[FR Doc. 2014-03761 Filed 2-21-14; 8:45 am]

BILLING CODE P